NATIONAL SCIENCE FOUNDATION

Agency Information Collection Activities: Comment Request

AGENCY: National Science Foundation.

ACTION: Notice; Submission for OMB Review; Comment Request.

SUMMARY: The National Science Foundation (NSF) has submitted the following information collection requirement to OMB for review and clearance under the Paperwork Reduction Act of 1995, Pub. L. 104-13. This is the second notice for public comment; the first was published in the Federal Register at 75 FR 11941, and no substantial comments were received. NSF is forwarding the proposed renewal submission to the Office of Management and Budget (OMB) for clearance simultaneously with the publication of this second notice. The full submission may be found at: http://www.reginfo.gov/public/do/PRAMain. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW. Room 10235, Washington, DC 20503, and to Suzanne Plimpton, Reports Clearance Officer, National Science Foundation, 4201 Wilson Boulevard, Room 295, Arlington, VA 22230, or by e-mail to splimpton@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

ADDRESSES: Submit written comments to Suzanne Plimpton, Reports Clearance Officer, National Science Foundation, 4201 Wilson Boulevard, Room 295, Arlington, VA 22230, or by e-mail to splimpton@nsf.gov.

FOR FURTHER INFORMATION CONTACT: Call or write, Suzanne Plimpton, Reports Clearance Officer, National Science Foundation, 4201 Wilson Boulevard, Room 295, Arlington, VA 22230, or by e-mail to splimpton@nsf.gov. Individuals who use a telecommunications device for the deaf (TDD) may call the Federal Information Relay Service (FIRS) at 1-800-877-8339 between 8 a.m. and 8 p.m., Eastern time, Monday through Friday.

SUPPLEMENTARY INFORMATION: Title: Generic Clearance for the Evaluation of the National Science Foundation's East Asia and Pacific Summer Institutes and International Research Fellowship Programs.

OMB Control Number: 3145-(NEW).

Abstract. The National Science Foundation (NSF) requests that the Office of Management and Budget (OMB) approve, under the Paperwork Reduction Act of 1995, a three year clearance to conduct data collection efforts for an outcome evaluation of the National Science Foundation's East Asia and Pacific Summer Institutes (EAPSI) and International Research Fellowship (IRFP) Programs.

These two programs offer early career researchers an opportunity to forge collaborative relationships with foreign scientists and engineers, albeit through different interventions. Launched in 1999, EAPSI provides $5,000 of support to U.S. graduate students to spend the summer (two months) conducting research in seven countries in East Asia and the Pacific region. The program is designed to immerse US scholars into the scientific and social culture of the host location. IRFP, established in 1992, provides support to post-graduate scientists (generally a year or two after the receipt of a doctoral degree), for a research experience abroad lasting from 9 to 24 months, with no restriction on geographical area. Awards range from $57,000 to $200,000, depending on the location, cost and duration of the project, and the applicants' family status.

To assess the program effectiveness, NSF has plans to collect data that are designed to explore the fellowship experiences and educational and career outcomes of EAPSI and IRFP fellows as well as the influence of the programs on host scientists and their institutions and on U.S. scientists and their institutions. The primary methods of data collection will include analyses of NSF program records and surveys of fellows, unfunded applicants, U.S. advisors of fellows, and foreign hosts.

Respondents. Individuals or households, Federal Government.

Use of the Information. The purpose of these studies is to provide NSF with outcome data on EAPSI and IRFP program. These data would be used for internal program management and for reporting to stakeholders within and outside of NSF.

Estimated Number of Respondents: 6,266.

Burden on the Public: 2,489.25 hours.

Dated: July 6, 2010.
Suzanne H. Plimpton,
Reports Clearance Officer, National Science Foundation.

[FR Doc. 2010-16760 Filed 7-8-10; 8:45 am]

BILLING CODE 7555-01-P